DEPARTMENT OF DEFENSE

Office of the Secretary

[Docket ID DOD-2018-HA-0098]

Proposed Collection; Comment Request

AGENCY: Office of the Assistant Secretary of Defense for Health Affairs, DoD.

ACTION: Information collection notice.

SUMMARY: In compliance with the Paperwork Reduction Act of 1995, the Defense Health Agency announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 11, 2019.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24 Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Consortium for Health and Military Performance (CHAMP), Department of Military and Emergency Medicine (MEM), Uniformed Services University of the Health Sciences, ATTN: Mr. Ian Gutierrez, 6720B Rockledge Drive, Suite 605, Bethesda, MD 20817, at (301) 295-1362.

SUPPLEMENTARY INFORMATION: Title; Associated Form; and OMB Number: Preservation of the Force and Family (POTFF) Spiritual Fitness Metrics; OMB Control Number 0720-XXXX.

Needs and Uses: The information collection requirement is necessary to develop and validate measures of Spiritual Fitness and Performance in line with the Chairman of the Joint Chiefs of Staff Instruction on Total Force Fitness. This measure will be used by US Special Operations Command's (USSOCOM) Preservation of the Force and Family's (POTFF) Spiritual Performance Team to evaluate programs that enhance spiritual performance.

Affected Public: Individuals and Households.

Annual Burden Hours: 2,670.67.

Number of Respondents: 8,012.

Responses per Respondent: 1.

Annual Responses: 8,012.

Average Burden per Response: 20 minutes.

Frequency: On occasion.

Respondents will be members of the general public recruited through standard internet recruiting techniques. Respondents will complete the online survey once. The responses will help in developing and validating a measure of spiritual fitness. If the information is not collected, the measure cannot be created. This will potential result in faulty evaluations of USSOCOM Chaplaincy services.

Dated: December 10, 2018.
Shelly E. Finke,
Alternate OSD Federal Register, Liaison Officer, Department of Defense.

[FR Doc. 2018-26986 Filed 12-12-18; 8:45 am]

BILLING CODE 5001-06-P